DEPARTMENT OF DEFENSE

Department of the Navy

Notice of Public Hearing for the Draft Supplemental Environmental Impact Statement for Developing Homeport Facilities for Three Nimitz-Class Aircraft Carriers in Support of the U.S. Pacific Fleet

AGENCY: Department of the Navy, DoD.

ACTION: Notice.

SUMMARY: Pursuant to Section 102(2)(c) of the National Environmental Policy Act (NEPA) of 1969, as implemented by the Council on Environmental Quality Regulations (40 Code of Federal Regulations Parts 1500-1508 the U.S. Department of the Navy (Navy) has prepared and filed with the U.S. Environmental Protection Agency (EPA) a Draft Supplemental Environmental Impact Statement (SEIS) for Developing Homeport Facilities for Three Nimitz-Class (CVN) Aircraft Carriers in Support of the U.S. Pacific Fleet on August 8, 2008. The Draft SEIS has been prepared to update the analyses contained in the 1999 Final Environmental Impact Statement (the 1999 FEIS) for Developing Homeport Facilities for Three Nimitz-Class Aircraft Carriers in Support of the U.S. Pacific Fleet.

The SEIS analyzes information that was not available at the time the 1999 FEIS was completed, and focuses on potentially significant new circumstances or information relevant to environmental conditions that have emerged since the 2000 Record of Decision (2000 ROD) for the 1999 FEIS. Information or circumstances that have not changed significantly since the 2000 ROD are not re-examined in the SEIS.

A public hearing will be held to provide information and receive oral and written comments on the Draft SEIS. Federal, state, and local agencies and interested individuals are invited to be present or represented at the hearing.

Dates and Addresses: The public hearing will be held on September 3, 2008. The hearing will consist of an open house information session from 3 p.m. to 6 p.m. and a formal public hearing from 6 p.m. to 9 p.m. Navy representatives will be available at the open house information session to answer questions about the proposal and the Draft SEIS analyses. The open house and public hearing will be held at: Coronado Community Center, Nautilus Room, 1845 Strand Way, Coronado, CA 92118.

FOR FURTHER INFORMATION CONTACT: SEIS Project Manager, Naval Facilities Engineering Command Southwest, 2730 McKean Street, Building 291, San Diego, CA 92136, telephone: 619-556-8509.

SUPPLEMENTARY INFORMATION: The Navy has filed the Draft SEIS for Developing Homeport Facilities for Three Nimitz-Class Aircraft Carriers in Support of the U.S. Pacific Fleet with the EPA in accordance with the requirements of the National Environmental Policy Act (NEPA) of 1969 (42 U.S.C. Sections 4321-4345) and its implementing regulations (40 CFR Parts 1500-1508). The Navy is the lead agency for the Proposed Action.

A Notice of Intent for the SEIS was published in the Federal Register on October 18, 2007 (Volume 72, Number 201, Pages 59084-59085), which specified that scoping comments must submitted on or before November 19, 2007. In response to local wildfires in the San Diego area, the Navy extended the normal 30-day scoping period. A second notice was published in the Federal Register Volume 72, 6 Number 218, Page 63891 on November 13, 2007, indicating that the public comment period had been extended through December 3, 2007 for a total of 47 days.

The Proposed Action from the 1999 FEIS has been implemented except for some minor infrastructure upgrades, some of which were not required at the time of the FEIS. Therefore, the Navy proposes to implement those minor infrastructure upgrades in order to meet current Navy requirements.

The Navy's analysis of the existing CVN homeport facilities and infrastructure at Naval Air Station North Island (NASNI) in Coronado, California, included a summary of specific construction projects needed to satisfy the requirements set out in the Naval Sea Systems Command and Naval Facilities Engineering Command guidance documents and Anti-Terrorism/Force Protection (AT/FP) guidance documents. These proposed minor infrastructure upgrades to Berth LIMA are analyzed in the SEIS and include: A fendering system, mooring bollards, a CVN security building and AT/FP improvements, as well as the installation of information systems, electrical and mechanical utility upgrades, paving, drainage, and site improvements.

There are no practical alternatives to these requirements, as current guidelines require these features for a homeport berth. Consequently, no alternatives to the minor infrastructure upgrades are discussed.

The primary focus of the SEIS is vehicular traffic and traffic-related issues in the vicinity of NASNI including evaluating the effectiveness of traffic mitigation measures implemented pursuant to the 2000 ROD. The SEIS also addresses potential environmental impacts to air quality, noise levels, biological resources, and marine water resources associated with the minor CVN berth infrastructure improvements at NASNI, and public scoping comments related to shoreline erosion along First Street in the City of Coronado.

The Draft SEIS has been distributed to various Federal, State, and local agencies, as well as other interested individuals and organizations. In addition, copies of the Draft SEIS have been made available for public review at the following repositories:

1. Chula Vista Library, Civic Center Branch, 365 F Street, Chula Vista CA 91910;

2. Coronado Public Library, 640 Orange Avenue, Coronado, CA 92118;

3. National City Public Library, 1401 National City Blvd., National City, CA 91950;

4. San Diego County Library, Imperial Beach Branch, 810 Imperial Beach Blvd., Imperial Beach, CA 91932;

5. San Diego Public Library, 820 E Street, San Diego, CA 92101;

6. San Diego Public Library, Point Loma/Hervey Branch Library, 3701 Voltaire St., San Diego, CA 92107-1606.

The Draft SEIS is also available electronically on the project Web site http://www.nimitzcarriersseis.com. Copies of the Draft SEIS or Executive Summary may be requested, and comments on the Draft SEIS may be submitted, via the Web site. Federal state, and local agencies, and other interested parties, are invited and encouraged to be present or represented at the public hearing. To ensure the accuracy of the record, all statements presented orally at the public hearing should be submitted in writing. All comments will become part of the public record and substantive comments will be responded to in the Final SEIS.

Equal weight will be given to oral and written statements. Persons wishing to speak will be required to sign in. In the interest of available time, and to ensure all who wish to give an oral statement at the public hearings have the opportunity to do so, each speaker's comments will be limited to three minutes. If a longer statement is to be presented, it should be summarized at the public hearing and the full text submitted in writing either at the hearing or mailed to: Naval Facilities Engineering Command Southwest, Attn: SEIS Project Manager Code: ROPME.RM, 2730 McKean Street, Building 291, San Diego, CA 92136.

Comments can be made in the following ways: (1) Oral statements/written comments at the public hearing; (2) written comments mailed to Naval Facilities Engineering Command Southwest, Attn: SEIS Project Manager Code: ROPME.RM, 2730 McKean Street, Building 291, San Diego, CA 92136; (3) written comment by e-mail to robert.montana@navy.mil; or (4) comments submitted via the project Web site at http://www.nimitzcarriersseis.com. Written comments postmarked by September 22, 2008 will become part of the official public record.

Dated: August 4, 2008.
T. M. Cruz,
Lieutenant Commander, Judge Advocate General's Corps, U.S. Navy, Federal Register Liaison Officer.

[FR Doc. E8-18385 Filed 8-7-08; 8:45 am]

BILLING CODE 3810-FF-P